DEPARTMENT OF COMMERCE

National Oceanic and Atmospheric Administration

RIN 0648-XE865

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council will hold a meeting via webinar of its Data Collection Technical Committee.

DATES: The meeting will convene Thursday, September 29, 2016, from 9 a.m. to 1 p.m. EDT.

ADDRESSES: The meeting will be held via webinar; you may register at: https://attendee.gotowebinar.com/register/5388009774335661059.

Council address: Gulf of Mexico Fishery Management Council, 2203 N. Lois Avenue, Suite 1100, Tampa, FL 33607; telephone: (813) 348-1630.

FOR FURTHER INFORMATION CONTACT: Dr. John Froeschke, Fishery Biologist-Statistician, Gulf of Mexico Fishery Management Council; john.froeschke@gulfcouncil.org; telephone: (813) 348-1630.

SUPPLEMENTARY INFORMATION: The items of discussion on the agenda are as follows:

The Data Collection Technical Committee will meet to discuss the minimum data elements necessary to implement electronic reporting of for-hire fisheries data in the Gulf of Mexico. The Technical Committee will review data elements collected by existing for-hire programs in the Gulf and other regions as well as the data elements recommended for consideration by the National Marine Fisheries Service Southeast Regional Office. The objectives are to improve timeliness and data quality of fisheries data from the federal for-hire sector that will be used to support fisheries science and management. The Technical Committee is expected to discuss and provide recommendations to the Gulf of Mexico Fishery Management Council regarding about the minimum data elements to achieve the goals of the program.

Meeting Adjourns

Please register for Data Collection Technical Committee meeting on Thursday, September 29, 2016, 9 a.m. EDT at: https://attendee.gotowebinar.com/register/5388009774335661059.

After registering, you will receive a confirmation email containing information about joining the webinar.

The Agenda is subject to change, and the latest version along with other meeting materials will be posted on the Council's file server. To access the file server, the URL is https://public.gulfcouncil.org:5001/webman/index.cgi, or go to the Council's Web site and click on the File Server link in the lower left of the Council Web site (http://www.gulfcouncil.org). The username and password are both “gulfguest”. Click on the “Library Folder”, then scroll down to “Data Collection Technical Committee”.

The meeting will be webcast over the internet. A link to the webcast will be available on the Council's Web site, http://www.gulfcouncil.org.

Although other non-emergency issues not on the agenda may come before the Technical Committee for discussion, in accordance with the Magnuson-Stevens Fishery Conservation and Management Act, those issues may not be the subject of formal action during this meeting. Actions of the Technical Committee will be restricted to those issues specifically identified in the agenda and any issues arising after publication of this notice that require emergency action under Section 305(c) of the Magnuson-Stevens Fishery Conservation and Management Act, provided the public has been notified of the Council's intent to take action to address the emergency.

Dated: September 6, 2016.
Tracey L. Thompson,
Acting Deputy Director, Office of Sustainable Fisheries, National Marine Fisheries Service.

[FR Doc. 2016-21729 Filed 9-8-16; 8:45 am]

BILLING CODE 3510-22-P